INTERNATIONAL TRADE COMMISSION

[Investigation No. 337-TA-1246]

Certain Integrated Circuits and Products Containing the Same; Commission Determination Not To Review an Initial Determination Granting Complainant's Motion To Terminate the Investigation Based on Settlement; Termination of the Investigation

AGENCY: U.S. International Trade Commission.

ACTION: Notice.

SUMMARY: Notice is hereby given that the U.S. International Trade Commission (“Commission”) has determined not to review an initial determination (“ID”) (Order No. 18) of the presiding administrative law judge (“ALJ”) terminating the investigation in its entirety based on settlement.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on February 12, 2021 based on an amended complaint filed by complainant Tela Innovations, Inc. of Los Gatos, CA (“Tela”). 86 FR 9369 (Feb. 12, 2021). The complaint, as amended, alleged violations of section 337 of the Tariff Act of 1930, as amended, 19 U.S.C. 1337, in the importation into the United States, the sale for importation, or the sale within the United States after importation of certain integrated circuits and products containing the same by reason of infringement of claims 1-11, 14-20, 25, and 26 of U.S. Patent No. 10,186,523. Id. at 9370. The complaint further alleged that a domestic industry exists. Id. The Commission's notice of investigation named as respondents Acer, Inc. of New Taipei City, Taiwan; Acer America Corporation of San Jose, CA; ASUSTek Computer Inc. of Taipei, Taiwan; ASUS Computer International of Fremont, CA; Intel Corporation of Santa Clara, CA; Lenovo Group Ltd. of Beijing, China; Lenovo (United States) Inc. of Morrisville, NC; Micro-Star International Co., Ltd. of New Taipei City, Taiwan; and MSI Computer Corp. of City of Industry, CA. Id. The Office of Unfair Import Investigations is participating in the investigation. Id.

On May 11, 2021, Tela moved, without opposition, to terminate this investigation in its entirety based on settlement pursuant to Commission Rule 210.21(b). 19 CFR 210.21(b). On May 13, 2021, the ALJ issued Order No. 18, terminating the investigation in its entirety based on settlement. No petitions for review of the ID were filed.

The Commission has determined not to review the subject ID.

The investigation is hereby terminated in its entirety.

The Commission vote for this determination took place on May 27, 2021.

The authority for the Commission's determination is contained in section 337 of the Tariff Act of 1930, as amended (19 U.S.C. 1337), and in Part 210 of the Commission's Rules of Practice and Procedure (19 CFR part 210).

By order of the Commission.
Issued: May 27, 2021.
Lisa Barton,
Secretary to the Commission.

[FR Doc. 2021-11620 Filed 6-2-21; 8:45 am]

BILLING CODE 7020-02-P